DEPARTMENT OF ENERGY

Notice of Availability of Draft Section 3116 Determination for Salt Waste Disposal at the Savannah River Site; Correction

AGENCY: Office of Environmental Management, Department of Energy.

ACTION: Notice of availability; correction.

SUMMARY: The Department of Energy (DOE) published in the Federal Register on Friday, April 1, 2005, a notice of availability of a draft section 3116 determination for the disposal of separated, solidified, low-activity salt waste at the Savannah River Site (SRS) near Aiken, South Carolina. The notice contained an incorrect internet address. As a result, the period for submitting public comments will be extended.

Correction

In the Federal Register of April 1, 2005, Vol. 70, on page 16809, in the third column, correct the DATES heading to read:

DATES: The comment period will end on May 20, 2005. Comments received after this date will be considered to the extent practicable.

In the ADDRESSES heading, 3rd line, the Internet address is corrected to read: http://apps.em.doe.gov/swd.

Issued in Washington, DC on April 4, 2005.
Charles Anderson,
Environmental Management.

[FR Doc. 05-7027 Filed 4-7-05; 8:45 am]

BILLING CODE 6450-01-P